DEPARTMENT OF THE INTERIOR

Bureau of Land Management

[15XL1109AF LLUTC04000 L13200000.EL0000, UTU 081895]

Notice of Availability for the Alton Coal Tract Coal Lease by Application Supplemental Draft Environmental Impact Statement, Utah

AGENCY: Bureau of Land Management, Interior.

ACTION: Notice of availability.

SUMMARY: In accordance with the National Environmental Policy Act of 1969 (NEPA), as amended, the Bureau of Land Management (BLM) has prepared a Supplemental Draft Environmental Impact Statement (EIS) for the Alton Coal Tract Lease by Application (LBA) and by this notice is announcing its availability and the start of a comment period on the Supplemental Draft EIS.

DATES: To ensure comments on the Supplemental Draft EIS will be considered, the BLM must receive written comments on the Alton Coal Tract LBA Supplemental Draft EIS within 60 days following the date the Environmental Protection Agency publishes its Notice of Availability in the Federal Register. The BLM will announce future meetings and any other public involvement activities at least 15 days in advance through public notices, media releases, and/or mailings.

ADDRESSES: You may submit comments by any of the following methods:

• Email: UT_Kanab_Altoncoal@blm.gov. Please include “Alton Coal Lease SDEIS” in the subject line.

• Fax: 435-644-1299, Attn: Keith Rigtrup.

• Mail: Bureau of Land Management, Kanab Field Office, Attn: Keith Rigtrup, 669 South Highway 89 A, Kanab, Utah 84741.

• Written comments may also be hand-delivered to the BLM-Utah Kanab Field Office in Kanab.

Copies of the Supplemental Draft EIS are available at the following BLM office locations: BLM-Utah State Office Public Room, 440 West 200 South, Suite 500, Salt Lake City, Utah 84101, and the BLM-Utah Kanab Field Office, 669 South Highway 89 A, Kanab, Utah 84741, during business hours (8:00 a.m.-4:30 p.m.), Monday through Friday, except holidays. The Supplemental Draft EIS is available electronically at the following Web site: http://www.blm.gov/ut/st/en/fo/kanab.html

FOR FURTHER INFORMATION CONTACT: Keith Rigtrup, BLM-Utah Color Country District Office, 176 East DL Sargent Drive, Cedar City, Utah 84721, or by telephone at 435-865-3000. Persons who use a telecommunications device for the deaf (TDD) may call the Federal Information Relay Service (FIRS) at 1-800-877-8339 to contact the above individual during normal business hours. The FIRS is available 24 hours a day, seven days a week. You will receive a reply during normal business hours.

SUPPLEMENTARY INFORMATION: The BLM made the initial Alton Coal Tract LBA Draft EIS available for public review from November 4, 2011 through January 27, 2012. The BLM received approximately 177,000 comments during that time expressing concerns with sensitive species (sage-grouse), protection of wetlands and air quality, among others. Based on those comments and work with other Federal agencies, including the U.S. Fish and Wildlife Service, Environmental Protection Agency, and the National Park Service, the BLM determined that a Supplemental Draft EIS was needed to adequately address public concerns. Preparation of the Supplemental Draft EIS began in July 2012. As part of the Supplemental Draft EIS process, the BLM worked with Federal, State, and county partners to address public concerns and also collaborated to identify mitigation measures for impacts associated with the project. The Supplemental Draft EIS analyzes the potential impacts of issuing a lease for the Alton Coal Tract, serial number UTU 081895. The lease tract is located near the town of Alton, Utah, and immediately adjacent to the existing Coal Hollow Mine. The LBA for the Alton tract was filed by Alton Coal Development, LLC, in accordance with 43 CFR 3425. The Alton Coal Tract contains 59.6 million tons of in-place bituminous coal. The coal quality in the Smirl coal zone on an “as received basis” is as follows: 10,019 Btu/lb (British Thermal Units per pound), 13 percent moisture, 10 percent ash, 39 percent volatile matter, 50 percent fixed carbon and 1.13 percent sulfur underlying the following lands in Kane County, Utah:

Salt Lake Meridian

T. 39 S., R. 5 W.,

sec. 7, SE¼SW¼ and S½SE¼;

sec. 18, lots 3 and 4 and E½, E½W¼; and E½SW¼;

sec. 19, lots 1 to 4 inclusive, NE¼, E½NW¼, E½SW¼, N½SE¼, and

SE¼SE¼;

sec. 20, lots 4 and 5, and N½SW¼;

sec. 30, lots 2 to 4 inclusive, SW¼NE¼, SE¼NW¼, E½SW¼, and W½SE¼;

sec. 31, lots 1 to 3 inclusive, NE¼, E½NW¼, NE¼SW¼, and N½SE¼;

T. 39 S., R. 6 W.,

sec. 12, SW¼ and W½SE¼;

sec. 13, NW¼NE¼, N½NW¼, SE¼NW¼, and SE¼;

sec. 24, NE¼, N½NW¼, SE¼NW¼, E½SW¼, N½SE¼, and SE¼SE¼;

sec. 25, E½NE¼, SW¼NE¼, and SE¼.

The area described includes both public and non-public lands and aggregates 3,581.27 acres.

Consistent with Federal regulations under NEPA and the Mineral Leasing Act of 1920, as amended, the BLM must prepare an environmental analysis prior to holding a competitive Federal coal lease sale. The Supplemental Draft EIS analyzes and discloses to the public the direct, indirect, and cumulative environmental impacts of issuing a Federal coal lease on the Alton Coal Tract, including mining and transportation of coal to a railhead near Cedar City, Utah. A copy of the Supplemental Draft EIS has been sent to affected Federal, State, tribal, and local government agencies; persons and entities identified as potentially being affected by a decision to lease the Alton Coal Tract; and, persons who indicated to the BLM that they wished to receive a copy of the Supplemental Draft EIS.

The Supplemental Draft EIS analyzes three action alternatives (Alternatives B, C, and K1) and a No Action Alternative. Under the action alternatives, a competitive sale would be held and a lease issued for the Federal coal included in the specific tracts considered under those alternatives.

In addition to its analysis of alternatives and consistent with the Kanab Field Office Record of Decision and Approved Resource Management Plan (2008), the Supplemental Draft EIS reflects the BLM's application of the unsuitability criteria (43 CFR 3461.5) to the Alton Coal Tract. Based on that review, the BLM has determined the Alton Coal Tract is unsuitable under Criterion 15 (43 CFR 3461.5) based on the presence of sage-grouse dancing and strutting grounds on and around the tract. The BLM will continue to consider the tract for leasing because under Criterion 15, “A lease may be issued if, after consultation with the State, the BLM determines that all or certain stipulated methods of coal mining will not have a significant long-term impact on the species being protected.” As part of that determination, the BLM will consider all available data related to the impacts of the project, including comments from cooperators and the public. All action alternatives in the Supplemental Draft EIS require implementation of a detailed Sage-Grouse Mitigation Plan that imposes, among other things, a 4:1 offsite mitigation ratio. The Sage-Grouse Mitigation Plan also includes reclamation of surrounding sagebrush habitats to vegetation standards that would provide for sage-grouse habitat, as well as treating a 186-acre area prior to ground disturbance on the leased tract.

The alternatives being considered in the Supplemental Draft EIS are in conformance with the Kanab Field Office Record of Decision and Approved Resource Management Plan (2008). Requests to be included on the mailing list for this project may be sent by mail, facsimile, or electronically to the addresses listed in the ADDRESSES section above. For those submitting comments on the Supplemental Draft EIS, please make the comments as specific as possible with reference to page numbers and sections of the document. Comments that contain only opinions or preferences will not receive a formal response; however, they may be considered and included as part of the BLM decision-making process.

Please note that public comments and information submitted including names, street addresses, and email addresses of persons who submit comments will be available for public review and disclosure at the Kanab Field Office (address listed above) during regular business hours (8 a.m. to 4:30 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 43 CFR 3425.3.

Jenna Whitlock,
Acting State Director.

[FR Doc. 2015-15006 Filed 6-17-15; 8:45 am]

BILLING CODE 4310-DQ-P